ENVIRONMENTAL PROTECTION AGENCY

[FRL-8271-4]

Agency Information Collection Activities: Submission to OMB for Review and Approval: Comment Request: National Pollution Discharge Elimination System (NPDES). Modification and Variance Requests: EPA ICR Number 0234.09, OMB Control Number 2080-0021; Correction

AGENCY: Environmental Protection Agency.

ACTION: Notice; correction.

SUMMARY: EPA published Federal Register on January 3, 2007 (72 FR 130-132), requesting comments and information on specific aspects of the proposed information collection to enable it to evaluate the impact of the Discharge Monitoring Report-Quality Assurance (DMR-QA) program on the Clean Water Act's National Pollution Discharge Elimination System (NPDES) Permittees. The document contains an incorrect heading. Deadline for seeking public comment has been extended to March 15, 2007.

DATES: Submission of comments on the January 3, 2007 Federal Register (72 FR 130) are extended until on or before March 15, 2007.

ADDRESSES: Submit your comments, identified by Docket ID Number: EPA-HQ-OECA-2006-0931, by one of the following methods:

• http://www.regulations.gov: Follow the online instructions for submitting comments.

• E-mail: helm.john@epa.gov.

• Fax: 202-564-0029.

• Mail: DMR-QA Permittee Data Report Form, EPA Docket Center, (EPA/DC) Environmental Protection Agency, Enforcement and Compliance Docket and Information Center, Mail Code 2201T, 1200 Pennsylvania Avenue, NW., Washington, DC 20460.

• OMB at: Office of Information and Regulatory Affairs, Office of Management and Budget (OMB). Attention: Desk Officer for EPA, 725 17th Street, NW., Washington, DC 20503.

Instruction: Direct your comments to Docket ID No. EPA-HQ-OECA-2006-0931. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. (For additional information about EPA's public docket, visit the EPA Docket Center homepage at http://www.epa.gov/epahome/dockets.htm.) .

FOR FURTHER INFORMATION CONTACT: John Helm, Office of Compliance, Laboratory Data Integrity Branch, 2225A, Environmental Protection Agency, 1200 Pennsylvania Ave., NW., Washington, DC 20460; telephone number: 202-564-4144; fax number 202-564-0029; e-mail address: helm.john@epa.gov.

Correction

The Heading in the Federal Register of January 3, 2007 (72 FR 130), should read: Agency Information Collection Activities: Proposed Collection; Comment Request; Performance Evaluation Studies on Water and Wastewater Laboratories, EPA ICR Number 0234.09. OMB Control Number 2080-0021.

Dated: January 11, 2007.
Richard Colbert,
Director, Agriculture Division.

[FR Doc. E7-815 Filed 1-19-07; 8:45 am]

BILLING CODE 6560-50-P